OFFICE OF THE UNITED STATES TRADE REPRESENTATIVE

Notice of Meeting of the Industry Functional Advisory Committee for Customs Matters (IFAC-1)

AGENCY: Office of the United States Trade Representative.

ACTION: Notice of meeting.

SUMMARY: The Industry Functional Advisory Committee for Customs Matters will hold a meeting on November 9, 2000, from 9:30 a.m. to 1 p.m. The meeting will be closed to the public from 9:30 a.m. to 12 noon, and opened to the public from 12 noon to 1 p.m.

DATES: The meeting is scheduled for November 9, 2000, unless otherwise notified.

ADDRESSES: The meeting will be held at the Department of Commerce, Room B841B, located at 14th Street and Constitution Avenue, NW., Washington, DC, unless otherwise notified.

FOR FURTHER INFORMATION CONTACT: Dan Gardner, (202) 482-3681 and Katherine Wiehagen (202) 482-0357, Department of Commerce, 14th Street and Constitution Avenue, NW., Washington, DC 20230, or Dominic Bianchi, Office of the U.S. Trade Representative, 1724 F Street, NW., Washington, DC 20508, (202) 395-6120.

SUPPLEMENTARY INFORMATION: During the opened portion of the meeting the U.S. Customs Entry Revision Project (ERP) will be discussed by representatives from the U.S. Customs Service and the Bureau of the Census. The ERP was introduced by the Customs Service in 1999 as a proposal to change U.S. customs laws and make them more consistent with current business practices and promote effective compliance. This discussion is an opportunity for the Industry Functional Advisory Committee for Customs Matters to be briefed and invite comments on ERP progress to date.

Dominic Bianchi,
Acting Assistant United States Trade Representative for Intergovernmental Affairs and Public Liaison.

[FR Doc. 00-27861 Filed 10-30-00; 8:45 am]

BILLING CODE 3190-01-M